COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products to the Procurement List that will be furnished by the nonprofit agency employing persons who are blind or have other severe disabilities.

Comments Must Be Received On or Before: 10/29/2012.

ADDRESSES: Committee for Purchase From People Who Are Blind or Severely Disabled, Jefferson Plaza 2, Suite 10800, 1421 Jefferson Davis Highway, Arlington, Virginia 22202-3259.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from the nonprofit agency employing persons who are blind or have other severe disabilities.

The following products are proposed for addition to Procurement List for production by the nonprofit agency listed:

Products

NSN: CBFF0001—Shirt, Navy Fire Fighters, Unisex, Short Sleeve Polo, Small thru XXX-Large

NSN: CBFF0002—Shirt, Navy Fire Fighters, Unisex, Short Sleeve Polo, Beyond XXX-Large

NSN: CBFF0003—Shirt, Polo, Navy Fire Fighters, Unisex, Long Sleeve, Small thru XXX-Large

NSN: CBFF0004—Shirt, Polo, Navy Fire Fighters, Unisex, Long Sleeve, Beyond XXX-Large

NSN: CBFF0005—Shirt, Navy Fire Fighters, Unisex, Short Sleeve, Neck 14½″ thru 19″

NSN: CBFF0006—Shirt, Navy Fire Fighters, Unisex, Short Sleeve, Neck beyond 19″

NSN: CBFF0007—Shirt, Navy Fire Fighters, Unisex, Neck size 14½″ to 19″, Long Sleeve, 33″ to 37″

NSN: CBFF0008—Shirt, Navy Fire Fighters, Unisex, Long Sleeve, Neck beyond 19″, Sleeve beyond 37″

NSN: CBFF0009—Pants, Navy Fire Fighters, Women's, Tactical, 6oz., 4 thru 20

NSN: CBFF0010—Pants, Navy Fire Fighters, Women's, Tactical, 6oz., 22 thru 24

NSN: CBFF0011—Pants, Navy Fire Fighters, Women's, Tactical, 6oz., beyond 24

NSN: CBFF0012—Pants, Navy Fire Fighters, Men's, Tactical, 6oz., Waist 30″ thru 48″

NSN: CBFF0013—Pants, Navy Fire Fighters, Men's, Tactical, 6oz., Waist 50″ thru 56″

NSN: CBFF0014—Pants, Navy Fire Fighters, Men's, Tactical, 6oz., Waist beyond 56″

NSN: CBFF0015—Pants, Navy Fire Fighters, Women's, Tactical, 7.5oz., 4 thru 20

NSN: CBFF0016—Pants, Navy Fire Fighters, Women's, Tactical, 7.5oz., 22 thru 24

NSN: CBFF0017—Pants, Navy Fire Fighters, Women's, Tactical, 7.5oz., beyond 24

NSN: CBFF0018—Pants, Navy Fire Fighters Men's, Tactical, 7.5oz., Waist 30″ thru 48″

NSN: CBFF0019—Pants, Navy Fire Fighters, Men's, Tactical, 7.5oz., Waist 50″ thru 56″

NSN: CBFF0020—Pants, Navy Fire Fighters, Men's, Tactical, 7.5oz., Waist beyond 56″

NSN: CBFF0021—Shorts, Navy Fire Fighters, Men's, Tactical, 6oz., Waist 30″ thru 48″

NSN: CBFF0022—Shorts, Navy Fire Fighters, Men's, Tactical, 6oz., Waist 50″ thru 56″

NSN: CBFF0023—Shorts, Navy Fire Fighters, Men's, Tactical, 6oz., Waist beyond 56″

NSN: CBFF0024—T-Shirt, Navy Fire Fighters, Small thru X-Large

NSN: CBFF0024XXL—T-Shirt, Navy Fire Fighters, XX-Large

NSN: CBFF0024XXXL—T-Shirt, Navy Fire Fighters, XXX-Large

NSN: CBFF0024XXXXL—T-Shirt, Navy Fire Fighters, XXXX-large

NSN: CBFF0025—Shirt, Navy Fire Fighters, Men's, Workstation, Small thru X-Large

NSN: CBFF0025XXL—Shirt, Navy Fire Fighters, Men's, Workstation, XX-Large

NSN: CBFF0025XXXL—Shirt, Navy Fire Fighters, Men's, Workstation, XXX-Large

NSN: CBFF0025XXXXL—Shirt, Navy Fire Fighters, Men's, Workstation, XXXX-Large

NSN: CBFF0025XXXXXL—Shirt, Navy Fire Fighters, Men's, Workstation, XXXXX-Large

NSN: CBFF0026—Pants, Navy Fire Fighters, Women's, Uniform, 4 thru 20

NSN: CBFF0027—Pants, Navy Fire Fighters, Women's, Uniform, 22 thru 24

NSN: CBFF0028—Pants, Navy Fire Fighters, Women's, Uniform, Beyond 24

NSN: CBFF0029—Pants, Navy Fire Fighters, Men's, Uniform, Waist 28″ thru 48″

NSN: CBFF0030—Pants, Navy Fire Fighters, Men's, Uniform, Waist 50″ thru 56″

NSN: CBFF0031—Pants, Navy Fire Fighters, Men's, Uniform, Waist beyond 56″

NSN: CBFF0032—Pants, Navy Fire Fighters, Women's, EMS, 4 thru 20

NSN: CBFF0033—Pants, Navy Fire Fighters, Women's, EMS, size 22 thru 24

NSN: CBFF0034—Pants, Navy Fire Fighters, Women's, EMS, beyond 24

NSN: CBFF0035—Pants, Navy Fire Fighters, Men's, EMS, Waist 28″ thru 48″

NSN: CBFF0036—Pants, Navy Fire Fighters, Men's, EMS, Waist 50″ thru 56″

NSN: CBFF0037—Pants, Navy Fire Fighters, Men's, EMS, Waist beyond 56″

NSN: CBFF0038—Belt, Navy Fire Fighters, Leather w/o Buckle, Waist 28″ thru 40″

NSN: CBFF0039—Belt, Navy Fire Fighters, Leather w/o Buckle, Waist 42″ thru 56″

NSN: CBFF0040—Belt, Navy Fire Fighters, Leather w/o Buckle, Waist 58″ thru 62″

NSN: CBFF0041—Belt, Navy Fire Fighters, Leather w/Chrome Buckle, Waist 28″ thru 40″

NSN: CBFF0042—Belt, Navy Fire Fighters, Leather w/Chrome Buckle, Waist 42″ thru 56″

NSN: CBFF0043—Belt, Navy Fire Fighters, Leather w/Chrome Buckle, Waist 58″ thru 62″

NSN: CBFF0044—Belt, Navy Fire Fighters, Leather w/Gold Buckle, Waist 28″ thru 40″

NSN: CBFF0045—Belt, Navy Fire Fighters, Leather w/Gold Buckle, Waist 42″ thru 56″

NSN: CBFF0046—Belt, Navy Fire Fighters, Leather w/Gold Buckle, Waist 58″ thru 62″

NSN: CBFF0047—Belt, Navy Fire Fighters TDU, w/Plastic Buckle, Waist 28″ thru 40″

NSN: CBFF0048—Belt, Navy Fire Fighters TDU, w/Plastic Buckle, Waist 42″ thru 56″

NSN: CBFF0049—Belt, Navy Fire Fighters TDU, w/Plastic Buckle, Waist 58″ thru 62″

NSN: CBFF0050—Tie Clip, Navy Fire Fighters, Plastic

NSN: CBFF0051—Tie Clip, Navy Fire Fighters, Metal

NSN: CBFF0053—Nameplate, Navy Fire Fighters, 2 Line, Metal

NSN: CBFF0054—Collar, Brass, Navy Fire Fighters, Metal

NSN: CBFF0055—Shorts, Navy Fire Fighters, Physical Training, Small thru X-Large

NSN: CBFF0055XXL—Shorts, Navy Fire Fighters, Physical Training, XX-Large

NSN: CBFF0055XXXL—Shorts, Navy Fire Fighters, Physical Training, XXX-Large

NSN: CBFF0055XXXXL—Shorts, Navy Fire Fighters, Physical Training, XXXX-Large

NSN: CBFF0056—T-Shirt, Navy Fire Fighters, Physical Training, Short Sleeve Small thru X-Large

NSN: CBFF0056XXL—T-Shirt, Navy Fire Fighters, Physical Training, Short Sleeve XX-Large

NSN: CBFF0056XXXL—T-Shirt, Navy Fire Fighters, Physical Training, Short Sleeve, XXX-Large

NSN: CBFF0056XXXXL—T-Shirt, Navy Fire Fighters, Physical Training, Short Sleeve, XXXX-Large

NSN: CBFF0057—Sweat Pants, Navy Fire Fighters, Physical Training, Small thru X-Large

NSN: CBFF0057XXL—Sweat Pants, Navy Fire Fighters, Physical Training, XX-Large

NSN: CBFF0057XXXL—Sweat Pants, Navy Fire Fighters, Physical Training, XXX-Large

NSN: CBFF0057XXXXL—Sweat Pants, Navy Fire Fighters, Physical Training, XXXX-Large

NSN: CBFF0058—Sweat Shirt, Navy Fire Fighters, Physical Training, Small thru X-Large

NSN: CBFF0058XXL—Sweat Shirt, Navy Fire Fighters, Physical Training, XX-Large

NSN: CBFF0058XXXL—Sweat Shirt, Navy Fire Fighters, Physical Training, XXX-Large

NSN: CBFF0058XXXXL—Sweat Shirt, Navy Fire Fighters, Physical Training, XXXX-Large

NSN: CBFF0059—Coveralls, Navy Fire Fighters, Long Sleeve, 34″ to 48″

NSN: CBFF0060—Coveralls, Navy Fire Fighters, Long Sleeve, 50″ to 60″

NSN: CBFF0061—Coveralls, Navy Fire Fighters, Long Sleeve, Beyond 60″

NSN: CBFF0062—Coveralls, Navy Fire Fighters, Short Sleeve, 34″ thru 48″

NSN: CBFF0063—Coveralls, Navy Fire Fighters, Short Sleeve, 50″ thru 60″

NSN: CBFF0064—Coveralls, Navy Fire Fighters, Short Sleeve, Beyond 60″

NSN: CBFF0065—Sweater, Navy Fire Fighters, Unisex, Navy Small thru X-Large

NSN: CBFF0066—Sweater, Navy Fire Fighters, Unisex, Navy, XX-Large thru XXX-Large

NSN: CBFF0067—Sweater, Navy Fire Fighters, Unisex, Navy, Small thru X-Large

NSN: CBFF0068—Sweater, Navy Fire Fighters, Unisex, Navy, XX-Large thru XXX-Large

NSN: CBFF0069—Shirt, Navy Fire Fighters, Short Sleeve, White, Neck 14″ thru 18.5″

NSN: CBFF0070—Shirt, Navy Fire Fighters, Short Sleeve, White, Neck beyond 18.5″

NSN: CBFF0071—Shirt, Navy Fire Fighters, Short Sleeve, White, neck 14″ thru 18.5″, Long Body

NSN: CBFF0072—Shirt, Navy Fire Fighters, Long Sleeve, White, Neck 14.5″ to 18.5″, Sleeve 33″ to 37″

NSN: CBFF0073—Shirt, Navy Fire Fighters, Long Sleeve, White, Neck 19″ and above, Sleeve 33″ to 37″

NSN: CBFF0074—Shirt, Navy Fire Fighters, Long Sleeve, White, Neck 14.5″ to 18.5″ Sleeve Beyond 37″

NSN: CBFF0075—Shirt, Navy Fire Fighters, Long Sleeve, White, Neck 14.5″ to 18.5″ w/Long Body

NSN: CBFF0076—Jacket, Navy Fire Fighters, Cyclone, X-Small thru XXXX-Large

NSN: CBFF0077—Ball Cap, Navy Fire Fighters, Elastic, One Size Fits All

NSN: CBFF0078—Baseball Cap, Navy Fire Fighters, Velcro, One Size Fits All

NSN: CBFF0079—Watch Cap, Navy Fire Fighters, One Size Fits All

NSN: CBFF0080—Watch Cap, Navy Fire Fighters, One Size Fits All

NPA: Oswego Industries, Inc., Fulton, NY

Contracting Activity: DEPT OF THE NAVY, NAVSUP FLT LOG CTR JACKSONVILLE, JACKSONVILLE, FL

Coverage: C-List for 100% of the requirement of the U.S. Navy Southeast Regional locations within the authority of Naval Supply Systems Command (NAVSUP) Fleet Logistics Center in Jacksonville, FL, as aggregated by the Naval Supply Systems Command (NAVSUP) Fleet Logistics Center, Jacksonville, FL.

Barry S. Lineback,
Director, Business Operations.

[FR Doc. 2012-23865 Filed 9-27-12; 8:45 am]

BILLING CODE 6353-01-P